DEPARTMENT OF LABOR

Employment and Training Administration

[TA-W-70,548]

Plum Creek Marketing, Inc., Columbia Falls, MT; Notice of Termination of Investigation

Pursuant to Section 223 of the Trade Act of 1974, as amended, an investigation was initiated on May 26, 2009 in response to a worker petition filed by a company official on behalf of workers of Plum Creek Marketing, Inc., Columbia Falls, Montana.

The petitioner has requested that the petition be withdrawn. Consequently, further investigation in this case would serve no purpose, and the investigation under this petition has been terminated.

Signed at Washington, DC, this 29th day of June, 2009.
Richard Church,
Certifying Officer, Division of Trade Adjustment Assistance.

[FR Doc. E9-18047 Filed 7-28-09; 8:45 am]

BILLING CODE 4510-FN-P